ENVIRONMENTAL PROTECTION AGENCY

[ER-FRL-8993-6]

Environmental Impacts Statements; Notice of Availability

Responsible Agency: Office of Federal Activities, General Information (202) 564-1399 or http://www.epa.gov/compliance/nepa/.

Weekly receipt of Environmental Impact Statements Filed 11/01/2010 Through 11/05/2010 Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100439, Final EIS, USFS, WI,

Twin Ghost Project, Proposes to Implement Vegetation and Transportation Management Activities, Great Divide Ranger District, Chequamegon-Nicolet National Forest, Ashland, Bayfield, Sawyer Counties, WI, Wait Period Ends: 12/13/2010, Contact: Debra Proctor 715-634-4821 Ext.325.

EIS No. 20100440, Draft EIS, USFS, MT, Warm Springs Habitat Enhancement Project, Restoring and Promoting Key Wildlife Habitat Components by Managing Vegetation, Reducing Fuels, and Promoting a More Resilient Fire Adapted Ecosystem, Helena Ranger District, Helena National Forest, Jefferson County, MT, Comment Period Ends: 12/27/2010, Contact: Liz Van Genderen 406-495-3749.

EIS No. 20100441, Second Draft EIS (Tiering), NCPC, DC, Tier-2 DEIS—Smithsonian Institution National Museum of African American History and Culture (NMAAHC), Construction and Operation, Between 14th and 15th Streets, NW., and Constitution Avenue, NW., and Madison Drive, NW., Washington, DC, Comment Period Ends: 01/11/2011, Contact: Jane Passman 202-633-6549.

EIS No. 20100442, Draft Supplement, FTA, WA, East Link Rail Transit Project, New and Updated Information, Proposes to Construct and Operate an Extension of the Light Rail System From Downtown Seattle to Mercer Island, Bellevue, and Redmond via Interstate 90, Funding and US Army COE Section 404 and 10 Permits, Seattle, WA, Comment Period Ends: 12/27/2010, Contact: John Witmer 206-220-7950.

EIS No. 20100443, Final EIS, NOAA, WA, PROGRAMMATIC—Incorporation of the Revised Washington Shoreline Management Act Guidelines Into the Federally Approved Washington Coastal Management Program, Amendment No. 4 Approval, Coastal Counties in WA, Wait Period Ends: 12/13/2010, Contact: Bill O'Beirne 301-563-1160.

Amended Notices

EIS No. 20100369, Draft EIS, FTA, CA, Hercules Intermodal Transit Center, Construction to Improve Access to Public Transit, Funding, Contra Costa County, CA, Comment Period Ends: 11/15/2010, Contact: Paul Page 415-744-3133.

Revision to FR Notice Published 09/17/2010: Extending Comment Period from 11/01/2010 to 11/15/2010.

EIS No. 20100386, Draft EIS, BLM, UT, Uinta Basin Natural Gas Development Project, To Develop Oil and Natural Gas Resources within the Monument Butte-Red Wash and West Tavaputs Exploration and Developments Area, Applications for Permit of Drill and Right-of-Way Grants, Uintah and Duchesne Counties, UT, Comment Period Ends: 11/30/2010, Contact: Mark Wimmer 435-781-4464.

Revision to FR Notice Published 10/01/2010: Extending Comment Period from 11/15/2010 to 11/30/2010.

Dated: November 8, 2010.
Robert W. Hargrove,
Director, NEPA Compliance Division, Office of Federal Activities.

[FR Doc. 2010-28503 Filed 11-10-10; 8:45 am]

BILLING CODE 6560-50-P